DEPARTMENT OF ENERGY

Federal Energy Regulatory Commission

Combined Notice of Filings #1

Take notice that the Commission received the following electric rate filings:

Docket Numbers: ER21-630-008; ER15-2224-010.

Applicants: Solar Star Colorado III, LLC, 325MK 8ME LLC.

Description: Triennial Market Power Analysis for Northwest Region of 325MK 8ME LLC, et al.

Filed Date: 12/29/25.

Accession Number: 20251229-5562.

Comment Date: 5 p.m. ET 2/27/26.

Docket Numbers: ER26-941-000.

Applicants: Southwest Power Pool, Inc.

Description: 205(d) Rate Filing: 4578 Red Barn Solar GIA to be effective 12/12/2025.

Filed Date: 1/5/26.

Accession Number: 20260105-5020.

Comment Date: 5 p.m. ET 1/26/26.

Docket Numbers: ER26-942-000.

Applicants: American Electric Power Service Corporation, Indiana Michigan Power Company.

Description: 205(d) Rate Filing: Indiana Michigan Power Company submits tariff filing per 35.13(a)(2)(iii: AEPSC submits I&M and NIPSCO Amended CIAC SA No. 7262 to be effective 12/10/2025.

Filed Date: 1/5/26.

Accession Number: 20260105-5023.

Comment Date: 5 p.m. ET 1/26/26.

Docket Numbers: ER26-943-000.

Applicants: Southwest Power Pool, Inc.

Description: 205(d) Rate Filing: 4579 NEER Interconnection Holdings GIA to be effective 12/12/2025.

Filed Date: 1/5/26.

Accession Number: 20260105-5024.

Comment Date: 5 p.m. ET 1/26/26.

Docket Numbers: ER26-944-000.

Applicants: Southwest Power Pool, Inc.

Description: 205(d) Rate Filing: 4580 Brantley Branch GIA to be effective 12/12/2025.

Filed Date: 1/5/26.

Accession Number: 20260105-5026.

Comment Date: 5 p.m. ET 1/26/26.

Docket Numbers: ER26-945-000.

Applicants: Cape Generating Station 5 LLC.

Description: Initial Rate Filing: Cape Project Shared Facilities Agreement to be effective 3/6/2026.

Filed Date: 1/5/26.

Accession Number: 20260105-5057.

Comment Date: 5 p.m. ET 1/26/26.

Docket Numbers: ER26-946-000.

Applicants: Horizon West Transmission, LLC.

Description: Informational Filing of Formula Rate Annual Update of Horizon West Transmission, LLC.

Filed Date: 12/23/25.

Accession Number: 20251223-5481.

Comment Date: 5 p.m. ET 1/13/26.

Docket Numbers: ER26-947-000.

Applicants: Panoche Energy Center, LLC.

Description: Compliance filing: Notice of Change in Category Status to be effective 1/6/2026.

Filed Date: 1/5/26.

Accession Number: 20260105-5153.

Comment Date: 5 p.m. ET 1/26/26.

Take notice that the Commission received the following qualifying facility filings:

Docket Numbers: QF26-401-000.

Applicants: Generate DG Fuel Cell IV, LLC.

Description: Form 556 of Generate DG Fuel Cell IV, LLC.

Filed Date: 12/29/25.

Accession Number: 20251229-5563.

Comment Date: 5 p.m. ET 1/20/26.

Docket Numbers: QF26-406-000.

Applicants: Broadwing Energy, LLC.

Description: Form 556 of Broadwing Energy, LLC.

Filed Date: 12/30/25.

Accession Number: 20251230-5486.

Comment Date: 5 p.m. ET 1/20/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 5, 2026.
Carlos D. Clay,
Deputy Secretary.

[FR Doc. 2026-00140 Filed 1-7-26; 8:45 am]

BILLING CODE 6717-01-P